DEPARTMENT OF COMMERCE

International Trade Administration

Application of the Countervailing Duty Law to Imports From the People's Republic of China: Request for Comment

AGENCY: Import Administration, International Trade Administration, Department of Commerce

DATES: Effective Date: December 15, 2006.

SUMMARY: The Department of Commerce invites comments on the applicability of the countervailing duty law to imports from the People's Republic of China.

DATES: Comments must be submitted no later than thirty days after publication of this Notice.

ADDRESSES: Written comments (original and eight copies) should be sent to Susan H. Kuhbach, Senior Office Director for Import Administration, U.S. Department of Commerce, Central Records Unit, Room 1870, Pennsylvania Avenue and 14th Street, NW., Washington, DC 20230.

FOR FURTHER INFORMATION CONTACT: Callie Conroy or David Layton, Import Administration, U.S. Department of Commerce, 14th Street and Constitution Avenue, NW., Washington, DC 20230, telephone: 202-482-0754 or 202-482-0371, respectively.

Background

In 1986, the Court of Appeals for the Federal Circuit affirmed that the Department of Commerce (the Department) has the discretion not to apply the countervailing duty (CVD) law to non-market economy (NME) countries in Georgetown Steel Corp. v. United States, 801 F.2d 1308 (Fed. Cir. 1986) (Georgetown Steel). On November 20, the Department initiated a countervailing duty investigation on imports of coated free sheet paper from the People's Republic of China (PRC). This is the first CVD investigation involving the PRC since 1991, when the Department initiated investigations on lugnuts and ceiling fans, which were terminated before going to order. See Rescission of Initiation of Countervailing Duty Investigation and Dismissal of Petition: Chrome-Plated Lug Nuts and Wheel Locks From the People's Republic of China (“PRC”), 57 FR 10459 (March 26, 1992); and Final Negative Countervailing Duty Determinations: Oscillating and Ceiling Fans From the People's Republic of China, 57 FR 24018 (June 5, 1992). In both cases, the Department did not find at that time a basis for applying the CVD law to the industry in question, consistent with Georgetown Steel. The initiation of the present investigation requires that the Department review its long-standing policy of not applying the CVD law to NMEs, such as the PRC.

The Department intends during the course of the present investigation to determine whether the countervailing duty law should now be applied to imports from the PRC. Given the complex legal and policy issues involved, the Department, therefore, invites public comment on this matter.

Persons wishing to comment should file a signed original and eight copies of each set of comments before the close of the comment period. Comments should be limited to thirty pages, double spaced. The Department will not accept comments accompanied by a request that a part or all of the material be treated confidentially because of its business proprietary nature or for any other reason. All comments responding to this notice will be a matter of public record and will be available for public inspection and copying at Import Administration's Central Records Unit, Room B-099, between the hours of 8:30 a.m. and 5 p.m. on business days. The Department requires that comments be submitted in written form, but also recommends submission of comments in electronic form to accompany the required paper copies. Comments filed in electronic form should be submitted either by e-mail to the webmaster below, or on CD-ROM, as comments submitted on diskettes are likely to be damaged by postal radiation treatment. Comments received in electronic form will be made available to the public in Portable Document Format (PDF) on the Internet at the Import Administration Web site at the following address: http://ia.ita.doc.gov/. Any questions concerning file formatting, document conversion, access on the Internet, or other electronic filing issues should be addressed to Andrew Lee Beller, Import Administration Webmaster, at (202) 482-0866, e-mail address: webmaster-support@ita.doc.gov.

All comments and submissions should be mailed to Susan H. Kuhbach, Senior Office Director for Import Administration; Subject: Application of the Countervailing Duty Law to Imports from the People's Republic of China: Request for Comment; Room 1870, U.S. Department of Commerce, 14th Street and Constitution Avenue, NW., Washington, DC, by no later than 5 p.m., on the above-referenced deadline date.

Dated: December 11, 2006.
David M. Spooner,
Assistant Secretary for Import Administration.

[FR Doc. E6-21437 Filed 12-14-06; 8:45 am]

BILLING CODE 3510-DS-P